DEPARTMENT OF HOUSING AND URBAN DEVELOPMENT

[Docket No. FR-4688-N-01]

Notice of Certification and Funding of State and Local Fair Housing Enforcement Agencies Under the Fair Housing Assistance Program (FHAP); Request for Comments

AGENCY: Office of the Assistant Secretary for Fair Housing and Equal Opportunity, HUD.

ACTION: Notice and request for comments.

SUMMARY: Under HUD's regulations addressing the certification of State and local fair housing enforcement agencies under the Fair Housing Assistance Program, the Department is required to periodically inform the public of certified and interim certified agencies and identify those agencies where a denial of interim certification or withdrawal of certification has been issued or proposed and solicit comments from the public, prior to HUD granting certification to State or local fair housing enforcement agencies. This notice fulfills these requirements.

DATES: Comments Due Date: March 29, 2002.

ADDRESSES: Interested persons are invited to submit comments regarding HUD granting certification to State or local fair housing enforcement agencies to the Office of Fair Housing and Equal Opportunity, Room 5230, Department of Housing and Urban Development, 451 Seventh Street, SW, Washington, DC 20410-0500. Facsimile (FAX) comments are not acceptable.

FOR FURTHER INFORMATION CONTACT: Lauretta A. Dixon, Director, FHIP/FHAP Support Division, Office of Programs, Office of Fair Housing and Equal Opportunity, Department of Housing and Urban Development, 451 Seventh Street, SW, Washington, DC, at (202) 708-2215 (this is not a toll free number). Persons with speech or hearing impairments may contact the FHIP/FHAP Support Division by calling 1-800-290-1671, or 1-800-877-8399 (the Federal Information Relay Service TTY). Other than the “800” numbers, these numbers are not toll-free.

SUPPLEMENTARY INFORMATION: Section 115.102 of HUD's regulations in 24 CFR Part 115 requires the Department to publish a notice soliciting public comment before granting certification to state or local fair housing enforcement agencies. The regulation also requires HUD to publish a list of agencies that have interim certification or certification, and a list of agencies to which a notice of denial of interim certification has been issued, or for which withdrawal of certification is being proposed.

(1) Prior to granting certification, HUD is soliciting public comment on the fair housing laws of the following agencies and the performance of the following agencies in enforcing their fair housing laws:

Austin Human Rights Commission (Texas)

Boston Fair Housing Commission (Massachusetts)

Cedar Rapids Civil Rights Commission (Iowa)

District of Columbia Office of Human Rights (District of Columbia)

Elkhart Human Relations Commission (Indiana)

Garland Office of Housing and Neighborhood Services (Texas)

Hillsborough County Board of County Commissioners (Florida)

Jacksonville Equal Opportunity Commission (Florida)

Mason City Human Rights Commission (Iowa)

Michigan Department of Civil Rights (Michigan)

New York State Division of Human Rights (New York)

North Dakota Department of Labor (North Dakota)

Palm Beach County Office of Human Rights (Florida)

Parma Law Department (Ohio)

Pittsburgh Human Relations Commission (Pennsylvania)

Reading Human Relations Commission (Pennsylvania)

Rockland County Commission on Human Rights (New York)

Tennessee Human Rights Commission (Tennessee)

Vermont Human Rights Commission (Vermont)

Waterloo Commission on Human Rights (Iowa)

York City Human Relations Commission (Pennsylvania)

(2) Withdrawal of certification was issued for the following jurisdiction because it repealed its fair housing ordinance:

Clearwater Human Relations Department (Florida)

There have been no denials of interim certification.

(3) The following is a list of agencies that have been granted interim certification and certification.

A. Agencies Granted Interim Certification

Austin Human Rights Commission (Texas)

Boston Fair Housing Commission (Massachusetts)

Cedar Rapids Civil Rights Commission (Iowa)

City of Bradenton (Florida)

Corpus Christi Department of Human Relations (Texas)

Davenport Civil Rights Commission (Iowa)

District of Columbia Office of Human Rights (District of Columbia)

Elkhart Human Relations Commission (Indiana)

Garland Office of Housing and Neighborhood Services (Texas)

Hillsborough County Board of County Commissioners (Florida)

Jacksonville Equal Opportunity Commission (Florida)

Lee County Office of Equal Opportunity (Florida)

Lincoln Commission on Human Rights (Nebraska)

Mason City Human Rights Commission (Iowa)

Michigan Department of Civil Rights (Michigan)

New York State Division of Human Rights (New York)

North Dakota Department of Labor (North Dakota)

Orange County Human Relations Commission (North Carolina)

Palm Beach County Office of Human Rights (Florida)

Parma Law Department (Ohio)

Pittsburgh Human Relations Commission (Pennsylvania)

Reading Human Relations Commission (Pennsylvania)

Rockland County Commission on Human Rights (New York)

Sioux City Human Rights Commission (Iowa)

Tennessee Human Rights Commission (Tennessee)

Topeka Human Relations Commission (Kansas)

Vermont Human Rights Commission (Vermont)

Waterloo Commission on Human Rights (Iowa)

York City Human Relations Commission (Pennsylvania)

B. Agencies Granted Certification

Asheville Office of Community Development (North Carolina)

Buncombe County Community Relations Council (North Carolina)

California Department of Fair Employment and Housing (California)

Cambridge Human Rights Commission (Massachusetts)

Charleston Human Rights Commission (West Virginia)

Charlotte-Office of Community Relations Committee (North Carolina)

Civil Rights and Conflict Resolution Section, Arizona Attorney General's Office (Arizona)

Colorado Civil Rights Division (Colorado)

Connecticut Commission on Human Rights and Opportunities (Connecticut)

Dallas Office of Housing Compliance, Fair Housing Administrator (Texas)

Dayton Human Relations Council (Ohio)

Delaware Human Relations Division (Delaware)

Des Moines Human Rights Commission (Iowa)

Dubuque Human Rights Department (Iowa)

Durham Human Relations Commission (North Carolina)

Fort Wayne Metropolitan Human Relations Commission (Indiana)

Fort Worth Human Relations Commission (Texas)

Florida Commission on Human Relations (Florida)

Gary Human Relations Commission (Indiana)

Georgia Commission on Equal Opportunity (Georgia)

Greensboro Human Relations Department (North Carolina)

Hawaii Civil Rights Commission (Hawaii)

Hammond Human Relations Commission (Indiana)

Huntington Human Relations Commission (West Virginia)

Indiana Civil Rights Commission (Indiana)

Iowa Civil Rights Commission (Iowa)

Omaha Human Relations Department (Nebraska)

Kansas City Human Relations (Missouri)

Kentucky Commission on Human Rights (Kentucky)

King County Office of Civil Rights and Compliance (Washington)

Knoxville Department of Community Development (Tennessee)

Lawrence Human Relations Commission (Kansas)

Lexington-Fayette Urban County Human Rights Commission (Kentucky)

Louisiana Public Protection Division (Louisiana)

Louisville-Jefferson County Human Relations Commission (Kentucky)

Maryland Commission on Human Relations (Maryland)

Massachusetts Commission Against Discrimination (Massachusetts)

Mecklenburg County Community Relations Committee (North Carolina)

Missouri Commission on Human Rights, Department of Labor and Industrial Relations (Missouri)

Nebraska Equal Opportunity Commission (Nebraska)

New Hanover Human Relations Commission (North Carolina)

North Carolina Human Relations Commission (North Carolina)

Ohio Civil Rights Commission (Ohio)

Oklahoma Human Rights Commission (Oklahoma)

Olathe Human Relations Commission, Housing and Human Services (Kansas)

Orlando Human Relations Department (Florida)

Pennsylvania Human Relations Commission (Pennsylvania)

Phoenix Equal Opportunity Department (Arizona)

Pinellas County Office of Human Rights (Florida)

Rhode Island Commission for Human Rights (Rhode Island)

Salina Human Relations Department (Kansas)

Seattle Human Rights Department (Washington)

Shaker Heights Fair Housing Review Board (Ohio)

South Bend Human Relations Commission (Indiana)

South Carolina Human Affairs Commission (South Carolina)

Springfield Human Relations Commission and Fair Housing (Illinois)

St. Petersburg Human Relations Department (Florida)

Tacoma Human Rights Department (Washington)

Tampa Office of Human Rights (Florida)

Texas Commission on Human Rights (Texas)

Utah Anti-Discrimination Division (Utah)

Virginia Department of Professional and Occupational Regulations, Fair Housing Administration (Virginia)

Washington State Human Rights Commission (Washington)

West Virginia Human Rights Commission (West Virginia)

Winston-Salem Human Relations Commission (North Carolina)

Dated: February 14, 2002.
Kenneth L. Marcus,
General Deputy Assistant Secretary for Fair Housing, and Equal Opportunity.

[FR Doc. 02-4560 Filed 2-26-02; 8:45 am]

BILLING CODE 4210-28-P